DEPARTMENT OF COMMERCE

[I.D. 050800LE]

Submission for OMB Review; Proposed Information Collection; Comment Request

DOC has submitted to the Office of Management and Budget (OMB) for clearance the following proposal for collection of information under the provisions of the Paperwork Reduction Act (44 U.S.C. Chapter 35).

Agency: National Oceanic and Atmospheric Administration.

Title: Scientific Research, Public Display, and Enhancement Permits Under the Marine Mammal Protection Act, the Fur Seal Act and the Endangered Species Act.

Agency Form Number(s): None.

OMB Approval Number: 0648-0084.

Type of Request: Reinstatement, without change, of a previously approved collection.

Burden: 6,165 hours.

Number of Respondents: 461.

Average Hours Per Response:4 minutes to 20 hours depending on the requirement.

Needs and Uses: The Marine Mammal Protection Act, the Fur Seal Act of 1966, and the Endangered Species Act of 1973 mandate the protection and conservation of marine mammals and other protected species/parts/products, and prohibit the taking, importation, and export of protected species except under certain circumstances. Exemptions for scientific research, enhancement, photography for educational or commercial purposes, public display, and certain other limited purposes are allowed provided permits are applied for and received or other necessary authorization is obtained.

Affected Public: Individuals or households, businesses or other for-profit organizations, not-for-profit institutions, Federal, state, local or tribal governments.

Frequency: Annually.

Respondent's Obligation: Mandatory.

OMB Desk Officer: David Rostker, (202) 395-3897.

Copies of the above information collection proposal can be obtained by calling or writing Linda Engelmeier, DOC Forms Clearance Officer, (202) 482-3272, Department of Commerce, Room 5027, 14th and Constitution Avenue, NW, Washington, DC 20230 (or via the Internet at lengelme@doc.gov).

Written comments and recommendations for the proposed information collection should be sent within 30 days of publication of this notice to David Rostker, OMB Desk Officer, Room 10202, New Executive Office Building, Washington, DC 20503.

Dated: May 4, 2000.
Gwellnar Banks,
Management Analyst, Office of the Chief Information Officer.

[FR Doc. 00-12029 Filed 5-11-00; 8:45 am]

BILLING CODE 3510-22-F